DEPARTMENT OF HOMELAND SECURITY

U.S. Customs and Border Protection

[Docket No. USCBP-2019-0018]

Request for Public Comments Regarding the Construction of Pedestrian Barrier Within Certain Areas in the Rio Grande Valley, Texas

AGENCY: U.S. Customs and Border Protection, Department of Homeland Security.

ACTION: Request for comments regarding the location of proposed pedestrian barrier.

SUMMARY: U.S. Customs and Border Protection (CBP) is proposing to construct primary pedestrian barrier within the Rio Grande Valley (RGV) in Starr County, Texas, including within the cities of Roma, Escobares, La Grulla, Rio Grande City, and the census-designated place of Salineno, Texas (the Affected Areas). CBP is requesting comments on its proposal to locate and construct primary pedestrian barrier in the Affected Areas as required by section 232(b) of the Consolidated Appropriations Act, 2019. CBP is also seeking input on potential impacts to the environment, historical preservation, culture, quality of life, and commerce, including socioeconomic impacts from the construction of primary pedestrian barrier in the Affected Areas. Comments should be fact-based, including links to supporting data or research, and should provide detailed information on potential impacts to the environment, historical preservation, culture, quality of life, and commerce, including socioeconomic impacts. Following an analysis of comments received, CBP will publish its responses along with its plans for construction.

DATES: The public comment period will be 60 days. To ensure consideration, comments must be received by August 26, 2019. Comments may be submitted as set forth in the ADDRESSES section of this document.

ADDRESSES: Comments may be submitted electronically through the Federal eRulemaking Portal: http://www.regulations.gov. Search docket #USCBP-2019-0018 and follow the instructions for sending comments.

Instructions: All comments received will be posted without change to http://www.regulations.gov, including any personal information provided. For detailed instructions on sending comments, see the “Request for Public Comments” heading of the SUPPLEMENTARY INFORMATION section of this document.

Docket: For access to the docket to read background documents or comments received, go to http://www.regulations.gov.

FOR FURTHER INFORMATION CONTACT: Paul Enriquez, Acquisition, Real Estate, and Environmental Director, Border Wall Program Management Office, U.S. Border Patrol at (949) 643-6365 or visit CBP's website: http://www.cbp.gov/about/environmental-cultural-stewardship/nepa-documents/docs-review.

SUPPLEMENTARY INFORMATION:

Background

Construction of Primary Pedestrian Barrier in the Rio Grande Valley

U.S. Customs and Border Protection (CBP) protects the nation's borders from terrorism, human trafficking, drug smuggling, illegal migration, unsafe/illegal goods, and agricultural pests, while facilitating the flow of legitimate travel and trade. CBP advances its mission by integrating modern technology, deploying highly-trained law enforcement officers, and leveraging public and private sector partnerships.

The Rio Grande Valley's (RGV) varied terrain includes areas of dense vegetation, agricultural land, and fast vanishing points that can be easily exploited by smugglers, illegal aliens, and traffickers. CBP has identified priority areas in the RGV that require additional resources, including new primary pedestrian barrier. CBP's preferred design for pedestrian barrier in Starr County is a bollard wall system that includes all-weather roads, surveillance systems, lighting, a 150-foot enforcement zone, and other supporting infrastructure. These resources will help CBP achieve operational control of the southern border commensurate with Executive Order 13767.¹

¹ E.O. 13767, Border Security and Immigration Enforcement Improvements, published in the Federal Register at 82 FR 8793 (Jan. 30, 2017).

Section 232 of the Consolidated Appropriations Act, 2019 (Pub. L. 115-141, 132 Stat. 348 (Feb. 15, 2019) (the “Consolidated Appropriations Act”)) makes funds available for the construction of physical barriers in RGV, including within the Texas cities of Roma, Escobares, La Grulla, Rio Grande City, and the census-designated place of Salineno, Texas (the Affected Areas). The Consolidated Appropriations Act requires that CBP utilize barrier designs that are operationally effective and that have been deployed as of the date of the Consolidated Appropriations Action of 2017 (Pub. L. 115-31, 131 Stat. 135 (May 5, 2017)).

The proposed action in the Affected Areas is one of a number of border infrastructure projects in the RGV that CBP has proposed, including approximately 13 miles of levee wall presently under construction in Hidalgo, County, Texas, funded by Congress through the Consolidated Appropriations Act, 2018 (Pub. L. 115-141, 132 Stat. 348 (March 23, 2018)). CBP collected public feedback for these projects from September 2018 to November 2018. Information gathered from this effort is used to inform CBP on potential impacts to the environment, culture, quality of life, and commerce. A Stakeholder Feedback Report that summarizes the feedback collected from September 2018 to November 2018 is available on CBP's website: http://www.cbp.gov/about/environmental-cultural-stewardship/nepa-documents/docs-review.

Proposed Action

Construction of Starr County Primary Pedestrian Barrier

The proposed action would involve the construction of primary pedestrian barrier within the Affected Areas. The Supporting Documents section of docket #USCBP-2019-0018 (available at http://www.regulations.gov) includes maps that depict the Affected Areas as well as the location of proposed pedestrian barriers in areas that are adjacent to the Affected Areas. The exact location of the barrier within the Affected Areas will depend on operational requirements, impact to the water flows and other environmental concerns, as well as input from the elected officials of the Affected Areas and from the general public.

CBP's standard design for the primary pedestrian barrier is a border wall system that consists of 30-foot tall steel bollards and includes a 150-foot enforcement zone on the south or river side of the border wall system, detection and surveillance technology, automated vehicle gates, pedestrian gates, an all-weather patrol road that would run parallel to the south or river side of the border wall system, and enforcement zone lighting. Trees and other vegetation within the roadway or construction site would be grubbed or cut back to facilitate safe vehicle passage and construction.

Request for Public Comments

All interested parties are invited to participate in the comment process. CBP invites agencies, organizations and the general public to provide input on location of the pedestrian barrier and issues related to the environment, historical preservation, culture, quality of life, and commerce, including socioeconomic impacts.

All interested parties are encouraged to submit comments through the Federal eRulemaking Portal at http://www.regulations.gov. If you cannot submit your material by using http://www.regulations.gov, contact the person in the FOR FURTHER INFORMATION CONTACT section of this document for alternative instructions. When submitting comments, please include your name and contact information. Comments received in response to this solicitation, including names and contact information of those who comment, will be part of the public record for this proposed action. Documents mentioned in this notice, and all public comments, will be available in our online docket at http://www.regulations.gov, and can be viewed by following that website's instructions. Additionally, if you visit the online docket and sign up for email alerts, you will be notified when comments are posted.

After the public comment period is complete and CBP has reviewed the results, a response to the comments received will be published in the Federal Register and made available on CBP's website: http://www.cbp.gov/about/environmental-cultural-stewardship/nepa-documents/docs-review.

Next Steps

Following the public comment period, CBP will review all comments. Responses to the comments received will be published in the Federal Register within 90 days following the close of the comment period and made available on CBP's website: http://www.cbp.gov/about/environmental-cultural-stewardship/nepa-documents/docs-review. Information collected will be taken into consideration in CBP's planning for the proposed barrier, and will inform the review of impacts to the environment, historical preservation, culture, quality of life, and commerce, including socioeconomic impacts.

Dated: June 21, 2019.
Loren Flossman,
Acting Executive Director, Program Management Office Directorate, Border Wall Program Management Office, U.S. Border Patrol, U.S. Customs and Border Protection.

[FR Doc. 2019-13670 Filed 6-26-19; 8:45 am]

BILLING CODE 9111-14-P